ENVIRONMENTAL PROTECTION AGENCY

[ER-FRL-8590-6]

Environmental Impacts Statements; Notice of Availability

Responsible Agency: Office of Federal Activities, General Information (202) 564-1399 or http: //www.epa.gov/compliance/nepa/.

Weekly receipt of Environmental Impact Statements.

Filed 02/09/2009 Through 02/13/2009 Pursuant to 40 CFR 1506.9.

EIS No. 20090035, Draft EIS, AFS, CA, Tehachapi Renewable Transmission Project, Construct, Operate and Maintain New and Upgraded 500 kV and 220 kV Transmission Lines and Substations, Special Use Authorization, Angeles National Forest, Los Angeles County, CA, Comment Period Ends: 04/06/2009, Contact: Justin Seastrand, 626-574-5278.

EIS No. 20090036, Final EIS, AFS, NM, Glacier Project, To Maintain and Promote Native Vegetation, Communities that are Diverse, Productive, Healthy, Implementation, Superior National Forest, Kawishiwi Ranger District, St. Louis and Lake Counties, MN, Wait Period Ends: 03/23/2009, Contact: Susan Duffy, 218-365-3097.

EIS No. 20090037, Final Supplement, AFS, MN, Echo Trail Area Forest Management Project, Updated Information to Addressing Water Quality and Watershed Health, Superior National Forest, Lacroix Ranger District and Kawishiwi Ranger District, St. Louis and Lake Counties, MN, Wait Period Ends: 03/23/2009, Contact: Carol Booth, 218-666-0020.

EIS No. 20090038, Draft EIS, COE, CA, PROGRAMMATIC—Los Angeles Regional Dredge Material Management Plan, Develop a Long-Term Strategy for Managing Dredged Sediment for all Harbors within the Region, City of Long Beach and County of Los Angeles, CA, Comment Period Ends: 04/13/2009, Contact: Larry Smith, 213-452-3846.

EIS No. 20090039, Draft EIS, AFS, SD, Telegraph Project Area, Proposes to Implement Multiple Resource Management Actions, Northern Hills Ranger District, Black Hills National Forest, Lawrence and Pennington Counties, SD, Comment Period Ends: 04/06/2009, Contact: Chris Stores, 605-642-4622.

EIS No. 20090040, Draft EIS, COE, CA, Natomas Levee Improvement Program Phase 3 Landslides Improvements Project, Issuing of 408 Permission and 404 Permit, Central Valley Flood Control Board, Sutter and Sacramento Counties, CA, Comment Period Ends: 04/06/2009, Contact: Liz Holland, 916-557-6763.

EIS No. 20090041, Final EIS, TVA, TN, Watts Bar Reservoir Land Management Plan, Amend and Update the 2005 Plan, Guide Land Use Approvals, Private Water Use Facility, and Resource Management Decisions, Loudon, Meigs, Rhea and Roane Counties, TN, Wait Period Ends: 03/23/2009, Contact: Richard L. Toennisson, 865-632-8517.

EIS No. 20090042, Final EIS, AFS, MT, Beaverhead-Deerlodge National Forest Land and Resource Management Plan, Implementation, Beaverhead, Butte-Silver Bow, Deerlodge, Granite, Jefferson, and Madison Counties, MT, Wait Period Ends: 03/23/2009, Contact: Leaf Magnuson, 406-683-3950.

EIS No. 20090043, Revised Draft EIS, AFS, CA, Moonlight and Wheeler Fires Recovery and Restoration Project, Analysis of the No-Action and Action Alternatives, Mt. Hough Ranger District, Plumas National Forest, Plumas County, CA, Comment Period Ends: 04/06/2009, Contact: Rich Bednarski, 530-283-7641.

EIS No. 20090044, Draft EIS, IBR, CO, Aspinall Unit Operations—Colorado River Storage Project, Modifying Water Flow Operations, Implementation, Gunnison River, Gunnison, Montrose, Delta, and Mesa Counties, CO, Comment Period Ends: 04/24/2009, Contact: Steve McCall, 970-248-0638.

EIS No. 20090045, Draft EIS, USN, 00, West Coast Basing of the MV-22, Determining Basing Location(s) and Providing Efficient Training Operations, CA, AZ, Comment Period Ends: 04/06/2009, Contact: Doug Gilkey, 619-532-3348.

Amended Notices

EIS No. 20090018, Draft EIS, AFS, ID, Lakeview-Reeder Fuels Reduction Project, Proposed Fuels Reduction and Road Treatment Activities, Idaho Panhandle National Forests, Priest Lake Ranger District, Bonner County, ID, Comment Period Ends: 03/30/2009, Contact: David Cobb, 208-443-2512.

Revision of FR Notice Published 01/30/2009: Extending Comment Period from 03/16/2009 to 03/30/2009.

Dated: February 17, 2009.
Robert W. Hargrove,
Director, NEPA Compliance Division, Office of Federal Activities.

[FR Doc. E9-3663 Filed 2-19-09; 8:45 am]

BILLING CODE 6560-50-P